NATIONAL SCIENCE FOUNDATION

Advisory Committee for Education and Human Resources; Cancellation of Meeting

SUMMARY: As a result of the impact of the recent government shutdown, the National Science Foundation is issuing this notice to cancel the November 6-7, 2013 Advisory Committee for Education and Human Resources meeting. The public notice for this committee was published in the Federal Register on October 3, 2013 (FR Doc. 2013-24199, page 61400).

FOR FURTHER INFORMATION CONTACT: Teresa Caravelli, National Science Foundation, 4201 Wilson Boulevard, Arlington, VA 22230, 703/292-8600, tcaravel@nsf.gov.

Dated: October 23, 2013.
Susanne Bolton,
Committee Management Officer.

[FR Doc. 2013-25303 Filed 10-25-13; 8:45 am]

BILLING CODE 7555-01-P